DEPARTMENT OF THE INTERIOR

Fish and Wildlife Service

[FWS-R2-ES-2009-N157; 20124-1113-0000-F5]

Endangered and Threatened Species Permit Applications

AGENCY: Fish and Wildlife Service, Interior.

ACTION: Notice of receipt of applications; request for public comment.

SUMMARY: The following applicants have applied for scientific research permits to conduct certain activities with endangered species under the Endangered Species Act of 1973, as amended (Act). The Act requires that we invite public comment on these permit applications.

DATES: To ensure consideration, written comments must be received on or before September 18, 2009.

ADDRESSES: Written comments should be submitted to the Chief, Endangered Species Division, Ecological Services, P.O. Box 1306, Room 6034, Albuquerque, NM 87103. Documents and other information submitted with these applications are available for review, subject to the requirements of the Privacy Act and Freedom of Information Act. Documents will be available for public inspection, by appointment only, during normal business hours at the U.S. Fish and Wildlife Service, 500 Gold Ave. SW., Room 6034, Albuquerque, NM. Please refer to the respective permit number for each application when submitting comments.

FOR FURTHER INFORMATION CONTACT: Susan Jacobsen, Chief, Endangered Species Division, P.O. Box 1306, Albuquerque, NM 87103; (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-219536

Applicant: Texas Tech University, Lubbock, Texas.

Applicant requests a new permit for research and recovery purposes to conduct presence/absence surveys of Pecos assiminea (Assiminea pecos) in Pecos County, Texas.

Permit TE-022190

Applicant: Arizona Sonora Desert Museum, Tucson, Arizona.

Applicant requests an amendment to a current permit for animal husbandry of the following species: jaguarundi (Herpailurus yaguarondi), jaguar (Panthera onca), ocelot (Leopardus pardalis), margay (Leopardus wiedi), Mexican gray wolf (Canus lupus baileyi), brown pelican (Pelecanus occidentalis), thick-billed parrot (Rhynchopsitta pachyrrhyncha), San Esteban Island chuckwalla (Sauromalus varius), desert pupfish (Cyprinodon macularius), Colorado pikeminnow (Ptychocheilus lucius), razorback sucker (Xyrauchen texanus), Gila topminnow (Poechiliopsis occidentalis), Kearney bluestar cactus (Amsonia kearneyana), Nichol's Turk's head cactus (Echinocactus horizonthanlonius nicholii), and the Arizona claret cup (Echinocereus triglochidiatus) which will be held in the museum.

Permit TE-222342

Applicant: Ecosystems Research Institute, Logan, Utah.

Applicant requests a new permit for research and recovery purposes to conduct presence/absence surveys and collect tissue samples of Colorado pikeminnow (Ptychcheilus lucius) and razorback sucker (Xyrauchen texanus) within the San Juan River, San Juan County, New Mexico.

Permit TE-212905

Applicant: New Mexico Department of Transportation, Santa Fe, New Mexico.

Applicant requests a new permit for research and recovery purposes to conduct presence/absence surveys of southwestern willow flycatcher (Empidonax traillii extimus) within New Mexico.

Authority: 16 U.S.C. 1531 et seq.

Dated: August 6, 2009.
Thomas L. Bauer,
Regional Director, Southwest Region, Fish and Wildlife Service.

[FR Doc. E9-19837 Filed 8-18-09; 8:45 am]

BILLING CODE P